DEPARTMENT OF JUSTICE

National Institute of Corrections

Solicitation for a Cooperative Agreement: Training Curriculum Development for Probation and Parole Supervision Executives

AGENCY: National Institute of Corrections, U.S. Department of Justice.

ACTION: Solicitation for a cooperative agreement.

SUMMARY: The National Institute of Corrections (NIC) is soliciting proposals from organizations, groups, or individuals who would like to enter into a 12-month cooperative agreement with NIC to develop and pilot a training curriculum that prepares executives of probation and parole supervision agencies in their new position. This curriculum should be between 32-40 hours, include a blended approach to training using instructor-led face-to-face and Web-based instructional delivery strategies, and be based on NIC's Instructional Theory Into Practice (ITIP) model.

DATES: Applications must be received by 4:00 p.m. EDT on Friday, July 20, 2012.

ADDRESSES: Mailed applications must be sent to: Director, National Institute of Corrections, 320 First Street NW., Room 5002, Washington, DC 20534. Applicants are encouraged to use Federal Express, UPS, or similar service to ensure delivery by the due date.

Hand delivered applications should be brought to 500 First Street NW., Washington, DC 20534. At the front desk, dial 7-3106, extension 0 for pickup.

Faxed applications will not be accepted. Electronic applications can only be submitted via www.grants.gov.

FOR FURTHER INFORMATION CONTACT: A copy of this announcement and the required application forms can be downloaded from the NIC Web page at www.nicic.gov.

All technical or programmatic questions concerning this announcement should be directed to Robbye Braxton, Correctional Program Specialist, National Institute of Corrections at rbraxtonmintz@bop.gov or to Jim Cosby, Community Services Division Chief, at jcosby@bop.gov.

SUPPLEMENTARY INFORMATION: The goal is to develop and pilot a training curriculum for probation and parole supervision executives that will describe their role and function as chief executive officer of a criminal justice agency. The curriculum should promote the use of evidence-based practices in planning and implementation, describe an executive's responsibility in the transition/reentry of offenders, clarify the collaborative role of an executive with other stakeholders in the criminal justice system, and examine the executive's leadership role in influencing an organizational culture that supports an agency's mission and goals.

Background: Generally an alternative to incarceration, probation is a court ordered period of correctional supervision in the community. Conversely, parole is a period of conditional supervised release in the community following a term of incarceration. There are many agencies that combine the functions of probation and parole community supervision in one agency. This combination increases the need for various offender management strategies, programs, and services. According to the most recent report from the Bureau of Justice Statistics titled “Probation and Parole in the United States, 2010,” the number of adult probationers under community supervision was 4,887,900. The report also indicated that the number of adult parolees under community supervision was at 840,700. And while the report indicates a declining trend, these numbers—more than 5 million offenders—illustrate the need for continuing effective services to further reduce recidivism and increase public safety.

This training will prepare newly appointed probation and parole executives to function in their position successfully in an evidence-based era. Issues of agency leadership, motivation, communication, decision-making, strategic planning, and managing daily operations are often new to these executives. While many come to the position with a myriad of criminal justice experiences, some have never been in a position of chief executive officer.

Statement of Work: Under this cooperative agreement, the goal is to develop and pilot a blended ITIP curriculum that prepares probation and parole supervision executives for their new role and responsibilities. This work will occur in four phases. The first phase is curriculum development and design, where probation and parole executive-level competency areas—knowledge and skills—will be identified through the developing-a-curriculum (DACUM) process. The curriculum is then designed using the ITIP model. The second phase is training for trainers (T4T). The newly designed curriculum will be presented to select trainers. The training will introduce trainers to the curriculum, adult learning theories, and facilitation styles. The third phase is pilot testing. This is the delivery of the new curriculum to participants from various jurisdictions. Finally, the last phase is revision, and it will involve assessments of and changes to the curriculum in order to produce the final deliverable.

Tasks to be performed under this cooperative agreement include: (1) Create a 32- to 40-hour blended training curriculum based on the ITIP model. The awardee under this solicitation will develop content areas—probation and parole executive competencies—as the basis for the curriculum. The awardee will participate in initial meetings with the NIC Correctional Program Specialist (CPS) assigned to manage the cooperative agreement to ensure understanding of and agreement on the scope of work to be performed. The awardee must consider and use NIC's positions relative to transition, evidenced-base practices, and offender programming in the development of the curriculum. In addition, the awardee will develop slide shows, a participant manual, and any other participant materials such as handouts or pre- and post-training assignments. The final curriculum, including its format, must be approved in advance by NIC. (2) Design, facilitate and validate the DACUM. The awardee will work with NIC's CPS to identify subject matter experts to serve on both the original DACUM and the validation DACUM. NIC will approve the final list of subject matter experts for both sessions. The DACUM will take place at the National Training Academy in Aurora, CO. The DACUM validation will occur virtually. (3) Design and facilitate a three- or four-day, T4T workshop based on the new curriculum. The awardee will work with NIC's CPS to identify potential trainers for the T4T, and NIC's CPS will approve the final list of trainers. During this session, trainers will become familiar with adult learning theory and its connection to facilitation styles. The session will include opportunities for the trainers to practice facilitating the modules, and the awardee, along with NIC's CPS, will provide feedback to trainers. The T4T session will take place at the National Training Academy in Aurora, CO. (4) Pilot the curriculum. The curriculum will be delivered to participants from various jurisdictions. The awardee will work with NIC's CPS in managing some of the pilot training logistics, such as setting training dates, reproducing trainer and participant materials, and acquiring any necessary equipment or additional information. The awardee will be present during the pilot to observe and assess the training. At the conclusion of each training day, the team—CPS, trainers and awardee—will participate in debriefing sessions to assess training and curriculum concerns/issues. The pilot will take place at the National Training Academy in Aurora, CO. (5) Develop an assessment instrument of the curriculum in consultation with NIC's CPS and NIC's Research and Information Services Division. (6) Participate in planning meetings with NIC's CPS to coordinate the curriculum development, review the DACUM information, assess the pilot training, and review final curriculum revisions. Awardee expenses for these meetings are limited to the cost of travel, lodging, meals, incidental expenses, and compensation. The awardee should plan for up to four 2-day meetings. Two of the meetings will take place at the National Training Academy in Aurora, CO, after the DACUM and pilot training. The other two meetings will take place in Washington, DC, at NIC's offices. All other meetings will occur either by telephone or virtual meeting.

Required Expertise: The successful applicant will need the skills, abilities, and knowledge in the following areas: Knowledge of the role of probation and parole and its function in the criminal justice system; The ability to develop a curriculum using the Instructional Theory Into Practice (ITIP) format; Expertise in a variety of instructional delivery strategies including, instructor-led synchronous/asynchronous Web-based e-learning; Skill in designing training curriculum linked to training objectives; Knowledge of evidence-based practices, offender transition, and how these areas relate to probation and parole supervision; Knowledge of training evaluation methods; Effective written and oral communication skills.

As part of this cooperative agreement, NIC will provide funding for participant expenses (travel, lodging, and meals) for the initial DACUM; participant expenses (travel, lodging, and meals) for the training for trainers workshop; and participant and trainer expenses (travel, lodging, and meals) for the pilot training. The awardee will not be responsible for these costs and should not include them in their application.

Document Requirements: Documents or other media produced under this award must follow these guidelines: Prior to the preparation of the final draft of any document or other media, the awardee must consult with NIC's Writer/Editor concerning the acceptable formats for manuscript submissions and the technical specifications for electronic media. The awardee must follow the guidelines listed herein, as well as follow (1) the Guidelines for Preparing and Submitting Manuscripts for Publication as found in the “General Guidelines for Cooperative Agreements,” which can be found on our Web site at www.nicic.gov/cooperativeagreements and (2) NIC recommendations for producing media using plain language, which can be found at www.nicic.gov/plainlanguage.

All final documents and other media submitted under this project may be posted on the NIC Web site and must meet the federal government's requirement for accessibility (e.g., 508 PDFs or HTML files). The awardee must provide descriptive text interpreting all graphics, photos, graphs, and/or multimedia that will be included with or distributed alongside the materials and must provide transcripts for all applicable audio/visual works.

Application Requirements: Applications should be concisely written, typed, double spaced, and reference the project by the NIC Opportunity Number and title in this announcement. The package must include a cover letter that identifies the audit agency responsible for the applicant's financial accounts as well as the audit period or fiscal year that the applicant operates under (e.g., July 1 through June 30); a program narrative, not to exceed 30 pages, in response to the statement of work; and a budget narrative explaining projected costs. Applicants may submit a description of the project teams' qualifications and expertise relevant to the project but should not attach lengthy resumes.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements available at http://nicic.gov/Downloads/General/certif-frm.pdf.

In addition, please submit with your typed application a copy of an ITIP curriculum, which must include all lesson plans and slide show presentations. The curriculum should be one that your organization has developed or developed in collaboration with another organization. You are not required to submit participant materials and/or manuals, but you may do so. The curriculum and related materials should be submitted on a disc.

Failure to supply all required forms with the application package may result in disqualification of the application from consideration.

NIC project managers will post answers to questions received from potential applicants on its Web site during the time when the solicitation is open to the public.

Authority: Pub. L. 93-415

Funds Available: Up to $90,000 is available for this project, subject to available funding. Preference will be given to applicants who provide the most cost efficient solutions in accomplishing the scope of work, not necessarily the lowest bid. NIC is seeking the applicant's best ideas regarding accomplishment of the scope of work and the related costs for achieving the goals of this solicitation. Funds may be used only for the activities that are linked to the desired outcome of the project.

This project will be a collaborative venture with the NIC Community Services Division.

Eligibility of Applicants: An eligible applicant is any private agency, educational institution, organization, individual, or team with expertise in the described areas.

Review Considerations: Applications received under this announcement will be subjected to the NIC Review Process. Proposals that fail to provide sufficient information to allow evaluation under the criteria below may be judged non-responsive and disqualified.

The criteria for the evaluation will be as follows:

Programmatic (45%)

Are all of the six project tasks discussed adequately? Is there a clear statement of how each task will be accomplished, the strategies to be employed, required staffing, and other required resources? Has the applicant demonstrated a clear understanding of ITIP and curriculum design concepts? Are there any innovative approaches, techniques, or design aspects proposed that will enhance the project?

Organizational (30%)

Does the proposed project staff possess the skills, knowledge and expertise necessary to complete the tasks listed under the scope of work? Does the applicant organization, group, or individual have the organizational capacity to achieve all five project tasks? Are the proposed project management and staffing plans realistic and sufficient to complete the project within the project time frame?

Project Management/Administration (25%)

Does the applicant identify reasonable milestones and measures to track progress? If consultants and/or partnerships are proposed, is there a reasonable justification for their inclusion in the project and a clear structure to ensure effective coordination? Is the proposed budget realistic, does it provide a sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option #1).

Registration in the CCR can be done online at the CCR Web site: http://www.bpn.gov/ccr. A CCR handbook and Worksheet can also be reviewed at the Web site.

Number of Awards: One

NIC Opportunity Number: 12CS12. This number should appear as a reference line in the cover letter, where indicated on Standard Form 424, and outside of the envelope in which the application is sent.

Catalog of Federal Domestic Assistance Number: 16.601.

Executive Order 12372: This project is not subject to the provisions of Executive Order 12372.

Morris L. Thigpen,
Director, National Institute of Corrections.

[FR Doc. 2012-15842 Filed 6-27-12; 8:45 am]

BILLING CODE 4410-36-P